U.S.-CHINA ECONOMIC AND SECURITY REVIEW COMMISSION

Notice of Open Meetings To Prepare 2013 Annual Report to Congress

Advisory Committee: U.S.-China Economic and Security Review Commission.

ACTION: Notice of open meetings to be held in Washington, DC as follows: (1) Review-Edit 2013 Annual Report to Congress—August 7, September 12-13, October 1-2, and October 21-22, 2013.

SUMMARY: Notice is hereby given of meetings of the U.S.-China Economic and Security Review Commission.

Name: William A. Reinsch, Chairman of the U.S.-China Economic and Security Review Commission.

The Commission is mandated by Congress to investigate, assess, evaluate and report to Congress annually on the U.S.-China economic and security relationship. The mandate specifically charges the Commission to prepare a report to Congress “regarding the national security implications and impact of the bilateral trade and economic relationship between the United States and the People's Republic of China [that] shall include a full analysis, along with conclusions and recommendations for legislative and administrative actions . . .”

Purpose of Meetings:

Pursuant to this mandate, the Commission will meet in Washington, DC on August 7, September 12-13, October 1-2, and October 21-22, 2013 to consider drafts of material for its 2013 Annual Report to Congress that have been prepared for its consideration by the Commission staff, and to make modifications to those drafts that Commission members believe are needed.

The report review-editing sessions are for members of the Commission to review and edit staff drafts of sections of the Commission's 2013 Annual Report for submission to Congress. The Commission is subject to the Federal Advisory Committee Act (FACA) with the enactment of the Science, State, Justice, Commerce and Related Agencies Appropriations Act, 2006 that was signed into law on November 22, 2005 (Pub. L. 109-108). In accord with FACA's requirement, meetings of the Commission to make decisions concerning the substance and recommendations of its 2013 Annual Report to Congress are open to the public.

Topics To Be Discussed:

The Commissioners will be considering draft report sections addressing the following topics:

• The United States-China trade and economic relationship, including Chinese investment in the United States, government and accountability in China's financial system, and China's agriculture policy and U.S. access to China's markets.

• China's impact on U.S. security interests, including a military and security year in review, cyber activities and maritime disputes.

• China's foreign and regional activities and relationships, including those pertaining to Middle East, Taiwan, Macau and Hong Kong.

• China's foreign and national security policies.

Dates, Times, and Room Locations (Eastern Daylight Time):

• Wednesday, August 7, 2013 (10:00 a.m. to 5:00 p.m.)—Room 231

• Thursday and Friday, September 12-13, 2013 (9:00 a.m. to 5:00 p.m.)—Room 231

• Tuesday and Wednesday, October 1-2, 2013 (9:00 a.m. to 5:00 p.m.)—Room 231

• Monday and Tuesday, October 21-22, 2013 (9:00 a.m. to 5:00 p.m.)—Room 231

ADDRESSES: All report review-editing sessions will be held in The Hall of the States (North Bldg., 2nd Floor), located at 444 North Capitol Street NW., Washington, DC 20001.

Public seating is limited and will be available on a “first-come, first-served” basis. Advanced reservations are not required. All participants must register at the front desk of the lobby.

Required Accessibility Statement:

The entirety of these Commission editorial and drafting meetings will be open to the public. The Commission may recess the public editorial/drafting sessions to address administrative issues in closed session.

The open meetings will also be adjourned in the noon vicinity for a lunch break. At the beginning of the lunch break, the Chairman will announce the reconvening time for the Annual Report review and editing session so members of the public will know when they may return if they wish to do so.

FOR FURTHER INFORMATION CONTACT: Reed Eckhold, Congressional Liaison and Director of Communications, U.S.-China Economic and Security Review Commission, 444 North Capitol Street NW., Suite 602, Washington, DC 20001; Phone: (202) 624-1496; Email: reckhold@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: July 31, 2013.
Michael Danis,
Executive Director, U.S.-China Economic and Security Review Commission.

[FR Doc. 2013-18833 Filed 8-5-13; 8:45 am]

BILLING CODE 1137-00-P